DEPARTMENT OF ENERGY

Federal Energy Regulatory Commission

Combined Notice of Filings

July 17, 2009.

Take notice that the Commission has received the following Natural Gas Pipeline Rate and Refund Report filings:

Docket Numbers: RP06-200-052.

Applicants: Rockies Express Pipeline LLC.

Description: Rockies Express Pipeline LLC submits Fourth Revised Sheet No. 8 et al. to FERC Gas Tariff, Second Revised Volume No. 1.

Filed Date: 07/16/2009.

Accession Number: 20090716-0087.

Comment Date: 5 p.m. Eastern Time on Tuesday, July 28, 2009.

Docket Numbers: RP09-508-001.

Applicants: Texas Eastern Transmission LP.

Description: Texas Eastern Transmission, LP submits Seventh Revised Sheet No. 501 et al. to its FERC Gas Tariff, Seventh Revised Volume No. 1.

Filed Date: 07/14/2009.

Accession Number: 20090714-0103.

Comment Date: 5 p.m. Eastern Time on Monday, July 27, 2009.

Docket Numbers: RP09-687-001.

Applicants: Equitrans, LP.

Description: Equitrans, LP submits Substitute Seventh Revised Sheet 308 to its FERC Gas Tariff, Original Volume 1 to be effective 8/1/09.

Filed Date: 07/14/2009.

Accession Number: 20090714-0104.

Comment Date: 5 p.m. Eastern Time on Monday, July 27, 2009.

Docket Numbers: RP09-601-001.

Applicants: El Paso Natural Gas Company.

Description: El Paso Natural Gas Company submits Twelfth Revised Sheet No. 290A to its FERC Gas Tariff, Second Revised Volume No. 1-A.

Filed Date: 07/15/2009.

Accession Number: 20090716-0074.

Comment Date: 5 p.m. Eastern Time on Monday, July 27, 2009.

Docket Numbers: RP09-684-001.

Applicants: Gas Transmission Northwest Corporation.

Description: Gas Transmission Northwest Corp submits Sub Fifth Revised Sheet No. 231 et al. to FERC Gas Tariff, Third Revised Volume No. 1-A.

Filed Date: 07/15/2009.

Accession Number: 20090715-0165.

Comment Date: 5 p.m. Eastern Time on Monday, July 27, 2009.

Docket Numbers: RP09-692-001.

Applicants: Transcontinental Gas Pipe Line Company, LLC.

Description: Transcontinental Gas Pipe Line Company, LLC submits Substitute First Revised Sheet No. 433 et al. to its FERC Gas Tariff, Fourth Revised Volume No. 1.

Filed Date: 07/15/2009.

Accession Number: 20090715-0201.

Comment Date: 5 p.m. Eastern Time on Monday, July 27, 2009.

Docket Numbers: RP09-693-001.

Applicants: Pine Needle LNG Company, LLC.

Description: Pine Needle LNG Company, LLC submits Substitute Sixth Revised Sheet No. 89 et al. to its FERC Gas Tariff, Original Volume No. 1.

Filed Date: 07/15/2009.

Accession Number: 20090715-0202.

Comment Date: 5 p.m. Eastern Time on Monday, July 27, 2009.

Docket Numbers: RP09-738-001.

Applicants: MarkWest Pioneer, LLC.

Description: MarkWest Pioneer, LLC submits First Revised Sheet 98 et al. to its FERC Gas Tariff, Original Volume 1 to be effective 8/1/09.

Filed Date: 07/15/2009.

Accession Number: 20090715-0203.

Comment Date: 5 p.m. Eastern Time on Monday, July 27, 2009.

Docket Numbers: RP99-220-026.

Applicants: Great Lakes Gas Transmission Limited Par.

Description: Great Lakes Gas Transmission Limited Partnership submits a negotiated rate contract with CMS Energy Resource Management Company commencing 7/16/09.

Filed Date: 07/15/2009.

Accession Number: 20090715-0166.

Comment Date: 5 p.m. Eastern Time on Monday, July 27, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-18106 Filed 7-29-09; 8:45 am]

BILLING CODE 6717-01-P